DEPARTMENT OF TRANSPORTATION

National Highway Traffic Safety Administration

[Docket No. NHTSA-2014-0077; Notice 2]

Automobili Lamborghini S.p.A., Grant of Petition for Decision of Inconsequential Noncompliance

AGENCY: National Highway Traffic Safety Administration (NHTSA), Department of Transportation (DOT).

ACTION: Grant of petition.

SUMMARY: Automobili Lamborghini S.p.A.(Lamborghini) has determined that certain model year (MY) 2008-2014 Lamborghini passenger cars do not fully comply with paragraph S4.4(c)(2), of Federal Motor Vehicle Safety Standard (FMVSS) No. 138, Tire Pressure Monitoring Systems. Lamborghini filed a report dated May 23, 2014, pursuant to 49 CFR part 573, Defect and Noncompliance Responsibility and Reports. Lamborghini then petitioned NHTSA under 49 CFR part 556 requesting a decision that the subject noncompliance is inconsequential to motor vehicle safety.

ADDRESSES: For further information on this decision contact Kerrin Bressant, Office of Vehicles Safety Compliance, the National Highway Traffic Safety Administration (NHTSA), telephone (202) 366-1110, facsimile (202) 366-3081.

SUPPLEMENTARY INFORMATION: I. Overview: Pursuant to 49 U.S.C. 30118(d) and 30120(h) and the rule implementing those provisions at 49 CFR part 556, Lamborghini submitted a petition for an exemption from the notification and remedy requirements of 49 U.S.C. Chapter 301 on the basis that this noncompliance is inconsequential to motor vehicle safety.

Notice of receipt of the petition was published, with a 30-day public comment period, on June 17, 2015, in the Federal Register (80 FR 34788). No comments were received. To view the petition and all supporting documents log onto the Federal Docket Management System (FDMS) Web site at: http://www.regulations.gov/. Then follow the online search instructions to locate docket number “NHTSA-2014-0077.”

II. Vehicles Involved: Affected are 690 MY 2012-2014 Lamborghini Aventador Coupe and Roadster model passenger cars manufactured between July 15, 2011 and May 13, 2014; 456 MY 2008-2010 Lamborghini Muricielago Coupe and Roadster model passenger cars manufactured between April 3, 2007 and April 29, 2010; and 2361 Lamborghini Gallardo Coupe and Spyder model passenger cars manufactured between June 14, 2007 and November 20, 2013, for a total of 3507 vehicles.

III. Noncompliance: Lamborghini explains that during testing of the tire pressure monitoring system (TPMS) it was noted that the fitment of an incompatible wheel and tire unit was correctly detected and the malfunction indicator telltale illuminated as required by FMVSS No. 138. However, when the vehicle ignition was deactivated and then reactivated after a five minute period, there was no immediate re-illumination of the malfunction indicator telltale as required when the malfunction still exists. Although the malfunction indicator telltale does not re-illuminate immediately after the vehicle ignition is reactivated, it does illuminate in no more than 40 seconds after the vehicle is driven above 23 miles per hour (mph).

IV. Rule Text: Paragraph S4.4(c)(2) of FMVSS No. 138 requires in pertinent part:

S4.4 TPMS Malfunction.

* * * * *

(c) Combination low tire pressure/TPMS malfunction telltale. The vehicle meets the requirements of S4.4(a) when equipped with a combined Low Tire Pressure/TPMS malfunction telltale that:

(2) Flashes for a period of at least 60 seconds but no longer than 90 seconds upon detection of any condition specified in S4.4(a) after the ignition locking system is activated to the “On” (“Run”) position. After each period of prescribed flashing, the telltale must remain continuously illuminated as long as a malfunction exists and the ignition locking system is in the “On” (“Run”) position. This flashing and illumination sequence must be repeated each time the ignition locking system is placed in the “On” (“Run”) position until the situation causing the malfunction has been corrected. . . .

V. Summary of Lamborghini's Analyses: Lamborghini stated its belief that the subject noncompliance is inconsequential to motor vehicle safety for the following reasons:

(A) Lamborghini stated that although the TPMS malfunction indicator telltale will not illuminate immediately after the vehicle is restarted, it will illuminate shortly thereafter and in any event it will illuminate in no more than 40 seconds. Lamborghini further explained that once the vehicle has started and is moving above 23 mph for a period of 15 seconds, the TPMS will seek to confirm the sensors fitted to the vehicle. Lamborghini explains that a wheel without a sensor will be detected within an additional 15-25 seconds and the TPMS malfunction indicator will then illuminate correctly. Once the malfunction indicator is illuminated, it will remain illuminated throughout that ignition cycle regardless of vehicle speed.

(B) Lamborghini explained that if the TPMS fails to detect the wheel sensors, the TPMS will in fact display on the TPMS pressures screen within the instrument cluster no value for the tire pressure on the affected tire, indicating that the status of the wheel sensor is unconfirmed. This information will provide the driver notification of a TPMS anomaly.

(C) Lamborghini states that the noncompliance is confined to one particular aspect of the functionality of the otherwise compliant TPMS malfunction indicator. All other aspects of the low-pressure monitoring system functionality are fully compliant with the requirements of FMVSS No. 138.

(D) Lamborghini mentioned that NHTSA recognized in the TPMS final rule (70 FR 18150, April 8, 2005), “A TPMS malfunction does not itself represent a safety risk to vehicle occupants, and we expect that the chances of having a TPMS malfunction and a significantly under-inflated tire at the same time are unlikely.” Lamborghini responded by saying that if a TPMS malfunction is not considered a safety risk, then ipso facto the limited noncompliance of the malfunction indicator in this case does not present an unreasonable risk to safety.

(E) Lamborghini stated that it is not aware of any customer complaints, field communications, incidents or injuries related to this condition.

(F) Lamborghini said it has fixed all unsold vehicles in its custody and control so that they are fully compliant with FMVSS No 138.

In summation, Lamborghini believes that the described noncompliance of the subject vehicles is inconsequential to motor vehicle safety, and that its petition, to exempt Lamborghini from providing recall notification of noncompliance as required by 49 U.S.C. 30118 and remedying the recall noncompliance as required by 49 U.S.C. 30120 should be granted.

NHTSA's Decision

NHTSA's Analysis: Lamborghini explained that although the malfunction indicator does not re-illuminate immediately after the vehicle is restarted, it will illuminate shortly thereafter—within no more than 40 seconds once the vehicle has accelerated above 23 mph.

NHTSA agrees with Lamborghini that the malfunction indicator will not illuminate as required during very short periods of time when the vehicle is traveling at low speeds and thus poses little risk to vehicle safety. Under normal driving conditions, a driver will begin a trip by accelerating moderately beyond 23 mph, and as explained by Lamborghini, the malfunction indicator illumination will occur shortly thereafter—within no more than 40 seconds. The malfunction indicator subsequently re-illuminates and then it will remain illuminated for the entire ignition cycle, regardless of vehicle speed. We agree the noncompliance will only occur in the very rare case where the driver begins a trip and never exceeds the 23 mph threshold, the speed required to re-activate the malfunction indicator. No real safety risk exists because at such low speeds there is little risk of vehicle loss of control due to underinflated tires. Furthermore, the possibility that the vehicle will experience both a low inflation pressure condition and a malfunction simultaneously is highly unlikely.

Lamborghini explained that if the TPMS fails to detect the wheel sensors, the TPMS will in fact display on the TPMS pressures screen within the instrument cluster no value for the tire pressure of the affected tire, indicating that the status of the wheel sensor is unconfirmed.

The agency evaluated the displays Lamborghini uses in the noncompliant vehicles. In addition to the combination telltale indicator lamp, the subject vehicles are equipped with a “plan view” icon which displays either the pressures for all four wheels individually or specifically identifies an individual tire with a large drop in pressure. If any wheel has a malfunctioning pressure sensor the indicator for that wheel displays either a red danger symbol (Priority 1) or a yellow warning symbol (Priority 2) depending on the nature of the problem. This additional information is not required by the safety standard, but can be used as an aid to the driver to determine the status of a vehicle's tires.

Lamborghini discussed that the noncompliance only involves one specific aspect of the malfunction functionality and that the primary function of the TPMS, identification of other malfunctions and identification of low inflation pressure scenarios, is not affected.

The agency agrees with Lamborghini's reasoning that the primary function of the TPMS is to identify low tire inflation pressure conditions which Lamborghini's system does as required by the safety standard. There are a variety of other malfunctions that can occur in addition to the incompatible wheel/tire warning malfunction identified in this petition. We understand from Lamborghini that the TPMS installed in the subject vehicles will otherwise perform as required.

Lamborghini mentioned that they have not received or are aware of any consumer complaints, field communications, incidences or injuries related to this noncompliance. In addition to the analysis done by Lamborghini that looked at customer complaints, field communications, incidents or injuries related to this condition, NHTSA conducted additional checks of NHTSA's Office of Defects Investigations consumer complaint database and found no related complaints.

NHTSA's Decision: In consideration of the foregoing analysis, NHTSA has decided that Lamborghini has met its burden of demonstrating that the FMVSS No. 138 noncompliance is inconsequential to motor vehicle safety. Accordingly, Lamborghini's petition is hereby granted and Lamborghini is exempted from the obligation of providing notification of, and a remedy for, the subject noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant vehicles that Lamborghini no longer controlled at the time it determined that the noncompliance existed. However, the granting of this petition does not relieve vehicle distributors and dealers of the prohibitions on the sale, offer for sale, or introduction or delivery for introduction into interstate commerce of the noncompliant vehicles under their control after Lamborghini notified them that the subject noncompliance existed.

Authority: 49 U.S.C. 30118, 30120: delegations of authority at 49 CFR 1.95 and 501.8.

Jeffrey M. Giuseppe,
Director, Office of Vehicle Safety Compliance.

[FR Doc. 2016-02721 Filed 2-10-16; 8:45 am]

BILLING CODE 4910-59-P